NATIONAL CREDIT UNION ADMINISTRATION

Notice of Meeting

TIME AND DATE: 10 a.m., Thursday, October 17, 2002.

PLACE: Board Room, 7th Floor, Room 7047, 1775 Duke Street, Alexandria, VA 22314-3428.

STATUS: Open.

MATTERS TO BE CONSIDERED: 1. Quarterly Insurance Fund Report.

2. Request from a Federal Credit Union to Expand its Community Charter.

3. Requests from two Federal Credit Unions to Add Underserved Areas to their Fields of Membership.

4. Approval and Funding for the 2003 Computer Replacement Project.

5. Final Rule: Part 704 of NCUA's Rules and Regulations, Corporate Credit Unions.

6. Approval of NCUA's Strategic Plan for 2003-2008.

RECESS: 11:15 a.m.

TIME AND DATE: 11:30 a.m., Thursday, October 17, 2002.

PLACE: Board Room, 7th Floor, Room 7047, 1775 Duke Street, Alexandria, VA 22314-3428.

STATUS: Closed.

MATTERS TO BE CONSIDERED:

1. Administrative Action Under Part 702 of NCUA's Rules and Regulations. Closed pursuant to Exemptions (8), (9)(A)(ii) and (9)(B).

2. One (1) Personnel Matter. Closed pursuant to Exemptions (2) and (6).

FOR FURTHER INFORMATION CONTACT: Becky Baker, Secretary of the Board, Telephone: 703-518-6304.

Becky Baker,
Secretary of the Board.

[FR Doc. 02-26333 Filed 10-10-02; 2:36 pm]

BILLING CODE 7535-01-M